NUCLEAR REGULATORY COMMISSION

[Docket No. 40-2259]

Notice of Amendment Request and Consideration of Proposed Use of Alternate Concentration Limits for Ground Water for Pathfinder Mines Corporation's Lucky MC Site, Gas Hills, WY, and Opportunity To Provide Comments and To Request a Hearing

I. Introduction

Notice is hereby given that the U. S. Nuclear Regulatory Commission (NRC) has received, by letter dated December 21, 2000, a license amendment application from Pathfinder Mines Corporation (PMC), requesting alternate concentration limits (ALCs) for six ground water constituents at their Lucky Mc site located in the Gas Hills region of Wyoming. Staff submitted a request for additional information by letter dated October 26, 2001, and PMC responded January 11, and November 4, 2002, with page changes.

The PMC Lucky Mc former uranium mill site (now a mill tailings disposal site) is licensed by the NRC under Source Materials License SUA-672 to possess byproduct material in the form of uranium processing waste, such as mill tailings, generated by past uranium processing operations. The PMC Lucky Mc site is located in the Gas Hills region of western Natrona and eastern Freemont Counties, Wyoming, approximately 80 kilometers (50 miles) southeast of the town of Riverton, Wyoming. The mill operated from 1958 to 1988 and has been dismantled and disposed of. The site contains three disposal areas (tailings impoundments) and three tailings 2 solution ponds. The license establishes a ground water protection standard at one Point of Compliance (POC) well near the disposal area. This well is used to monitor water quality because hazardous constituents have leached from the milling waste into the upper aquifer.

The ACL application requests that site-specific concentration limits for six hazardous constituents in ground water be granted for the PMC site in place of the current concentration values in the license. The licensee has indicated that the concentration limits required to be met under the licensed corrective action program are not attainable due to the high cost and the influence of mining-impacted water. Also, the ground water at the PMC site and surrounding areas is impacted by open-pit uranium mines having the same constituents as those resulting from the tailings seepage. The requested concentration limits would be protective of public health and the environment, and appear to meet the requirements of 10 CFR Part 40, Appendix A.

PMC also is proposing that the site's Point of Exposure (POE) be established at the long-term care boundary. This boundary encompasses all the land that will be transferred to the U.S. Department of Energy (DOE) for perpetual care of the disposal site. The POE is the location nearest the site where the public or environment might be exposed to milling impacted ground water, even though such exposure is highly unlikely.

II. Opportunity To Provide Comments

The NRC is providing notice to individuals in the vicinity of the facility that the NRC is in receipt of this request, and will accept comments concerning this action within 30 days of the publication of this notice in the Federal Register. The comments may be provided to the Chief, Rules and Directives Branch, Division of Administrative Services, Office of Administration, U.S. Nuclear Regulatory Commission, Washington, DC 20555-001, and should cite the publication date and page number of this Federal Register notice. Written comments may also be delivered to Room T-6 D59, Two White Flint North, 11545 Rockville Pike, Rockville, MD 20852, from 7:30 a.m. until 4:15 p.m. on Federal Workdays.

III. Opportunity To Request a Hearing

The NRC hereby provides notice that this is a proceeding on an application for an amendment of a license falling within the scope of Subpart L, “Informal Hearing Procedures for Adjudications in Materials and Operator Licensing Proceedings” of NRC's rules and practice for domestic licensing proceedings in 10 CFR part 2. Pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to 301-415-1101, or by email to hearingdocket@nrc.gov.

In accordance with 10 CFR 2.1205(f), each request for a hearing must also be served, by delivering it personally or by mail, to:

(1) The applicant, Pathfinder Mines Corporation, P.O. Box 730, Mills, WY 82644, Attention: Tom Hardgrove; and

(2) The NRC staff, by delivery to the General Counsel, One White Flint North, 11555 Rockville Pike, Rockville, MD 20852, or by mail addressed to the Office of the General Counsel, U.S. Nuclear Regulatory Commission, Washington, DC 20555. Because of continuing disruptions in the delivery of mail to United States Government offices, it is requested that requests for hearing be also transmitted to the Office of the General Counsel, either by means of facsimile transmission to 301-415-3725, or by email to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

IV. Further Information

The application for the license amendment is available for inspection at NRC's Public Electronic Reading Room at http://www.nrc.gov/reading-rm/adams.html (ADAMS Assession Numbers: ML010250146 and ML023160530). Documents may also be examined and/or copied for a fee, at the NRC's Public Document Room, located at One White Flint North, 11555 Rockville Pike, Rockville, MD 20852. Any questions with respect to this action should be referred to Elaine Brummett, Fuel Cycle Facilities Branch, Division of Fuel Cycle Safety and Safeguards, Office of Nuclear Material Safety and Safeguards, U.S. Nuclear Regulatory Commission, Mail Stop T8-A33, Washington, DC 20555-0001. Telephone: (301) 415-6606; Fax: (301)415-5390.

Dated at Rockville, MD, this 12th day of December, 2002.
For the Nuclear Regulatory Commission.
Daniel M. Gillen,
Chief, Fuel Cycle Facilities Branch, Division of Fuel Cycle Safety and Safeguards, Office of Nuclear Material Safety and Safeguards.

[FR Doc. 02-31870 Filed 12-17-02; 8:45 am]

BILLING CODE 7590-01-P